DEPARTMENT OF COMMERCE

National Oceanic and Atmospheric Administration

[I.D. 101105B]

Fisheries of the South Atlantic; Research and Monitoring Workshop Supporting Ecosystem Management in the South Atlantic Region

AGENCY: National Marine Fisheries Service (NMFS), National Oceanic and Atmospheric Administration (NOAA), Commerce.

ACTION: Notice of Research and Monitoring Workshop Supporting Ecosystem Management in the South Atlantic Region.

SUMMARY: The South Atlantic Fishery Management Council (Council) will conduct a research and monitoring workshop to support the Council's evolution to ecosystem management in the South Atlantic region in Charleston, SC.

DATES: The workshop will take place November 16-18, 2005. See SUPPLEMENTARY INFORMATION for specific dates and times.

ADDRESSES: The workshop will be held at the Town and Country Inn and Conference Center, 2008 Savannah Highway, Charleston, SC 29407, telephone: (800) 334-6660 or (843) 571-1000; fax: (843) 766-9444.

FOR FURTHER INFORMATION CONTACT: Kim Iverson, Public Information Officer, South Atlantic Fishery Management Council, One Southpark Circle, Suite 306, Charleston, SC 29407-4699; telephone: (843) 571-4366 or toll free (866) SAFMC-10; fax: (843) 769-4520; email: kim.iverson@safmc.net.

SUPPLEMENTARY INFORMATION: Invited workshop participants will meet from 8:30 a.m. - 5 p.m. on November 16-17, 2005, and from 8:30 a.m. - 12:30 p.m. on November 18, 2005. The workshop is designed to identify priority research and monitoring needs by area of concern for inclusion into the Council's Fishery Ecosystem Plan. Summary outputs from various break-out group sessions will provide a foundation from which the research and monitoring section of the Fishery Ecosystem Plan will be developed. They will also include recommendations supporting the expansion of research programs and enhancement of partnerships among federal and state agencies, universities, and institutions to support the move to ecosystem management.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Note: The times and sequence specified in this agenda are subject to change.

Special Accommodations

These meetings are physically accessible to people with disabilities. Requests for auxiliary aids should be directed to the Council office (see ADDRESSES) 3 days prior to the meetings.

Dated: October 12, 2005.
Emily Menashes,
Acting Director, Office of Sustainable Fisheries, National Marine Fisheries Service.

[FR Doc. E5-5708 Filed 10-14-05; 8:45 am]

BILLING CODE 3510-22-S